DEPARTMENT OF TRANSPORTATION

OFFICE OF THE SECRETARY

Aviation Proceedings

Aviation Proceedings, Agreements filed during the week ending June 30, 2000. The following Agreements were filed with the Department of Transportation under the provisions of 49 U.S.C. 412 and 414. Answers may be filed within 21 days after the filing of the application.

Docket Number: OST-2000-7582.

Date Filed: June 26, 2000.

Parties: Members of the International Air Transport Association.

Subject: PTC2 AFR 0089 dated 23 June 2000, Mail Vote 077—Resolution 010z, TC2 Within Africa Special Passenger Amending Resolution, Intended effective date: 1 July 2000.

Docket Number: OST-2000-7583.

Date Filed: June 27, 2000.

Parties: Members of the International Air Transport Association.

Subject: PTC3 0443 dated 23 June 2000, Mail Vote 078—Resolution 010a, TC3 Special Passenger Amending Resolution (Japan/Korea-South East Asia), Intended effective date: 1 July 2000.

Docket Number: OST-2000-7584.

Date Filed: June 27, 2000.

Parties: Members of the International Air Transport Association.

Subject: PTC COMP 0647, Mail Vote 079—Resolution 010b, TC2/12/23 Special Passenger Amending Resolution from Kuwait, Intended effective date: 1 July 2000.

Dorothy Y. Beard,
Federal Register Liaison.

[FR Doc. 00-18132 Filed 7-17-00; 8:45 am]

BILLING CODE 4910-62-P